DEPARTMENT OF TRANSPORTATION

Federal Aviation Administration

[Summary Notice No. PE-2001-91]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC on November 19, 2001.
Donald P. Byrne,
Assistant Chief Counsel for Regulations.

Dispositions of Petitions

Docket No.: FAA-2001-10796.

Petitioner: Kendall Flying Service.

Section of 14 CFR Affected: 14 CFR § 135.143(c)(2).

Description of Relief Sought/Disposition: To permit KFS to operate certain aircraft under part 135 without a TSO-C112 (Mode S) transponder installed in this aircraft.

Grant, 10/19/2001, Exemption No. 7648

Docket No.: FAA-2001-9946.

Petitioner: Mr. Tom Travis.

Section of 14 CFR Affected: 14 CFR § 121.383(c).

Description of Relief Sought/Disposition: To permit Mr. Travis to act as a pilot in operations conducted under part 121 after reaching his 60th birthday.

Denial, 10/19/2001, Exemption No. 7649.

Docket No.: FAA-2001-10814 (previously Docket No. 28317).

Petitioner: Eagle Canyon Airlines, Inc., dba Scenic Airlines.

Section of 14 CFR Affected: 14 CFR § 135.143(c)(2).

Description of Relief Sought/Disposition: To permit ECA to operate certain aircraft under part 135 without a TSO-C112 (Mode S) transponder installed in those aircraft.

Grant, 10/19/2001, Exemption No. 7147A.

Docket No.: FAA-2001-10717 (previously Docket No. 29723).

Petitioner: Westjet Air Center, Inc.

Section of 14 CFR Affected: 14 CFR § 61.3(a) and (c).

Description of Relief Sought/Disposition: To permit Westjet pilots to carry written confirmation of FAA issued pilot or medical certificates provided by Westjet based on information in Westjet's approved record system.

Grant, 10/22/2001, Exemption No. 7136A.

Docket No.: FAA-2001-10284 (previously Docket No. 20049).

Petitioner: T.B.M., Inc.

Section of 14 CFR Affected: 14 CFR § 91.529(a)(1).

Description of Relief Sought/Disposition: To permit TBM to operate its McDonnell Douglas DC-6 and DC-7 aircraft without a flight engineer during flightcrew training, ferry operations, and test flights conducted to prepare for firefighting operations conducted under 14 CFR part 137.

Grant, 10/22/2001, Exemption No. 2956L.

Docket No.: FAA-2001-9944.

Petitioner: Schwartz Engineering Co.

Section of 14 CFR Affected: 14 CFR § 25.813(e).

Description of Relief Sought/Disposition: To permit Schwartz to install interior doors between passenger compartments on Boeing Model 757-200 S/N 28463.

Grant, 10/19/2001, Exemption No. 7651.

Docket No.: FAA-2001-9943.

Petitioner: Schwartz Engineering Co.

Section of 14 CFR Affected: 14 CFR § 25.813(e).

Description of Relief Sought/Disposition: To permit Schwartz to install interior doors between passenger compartments on Boeing Model 767-200 S/N 28270.

Grant, 10/19/2001, Exemption No. 7650.

[FR Doc. 01-29261 Filed 11-21-01; 8:45 am]

BILLING CODE 4910-13-M